DEPARTMENT OF COMMERCE

Submission for OMB Review; Comment Request

The Department of Commerce (DOC) has submitted to the Office of Management and Budget (OMB) for clearance the following proposal for collection of information under the provisions of the Paperwork Reduction Act (44 USC Chapter 35).

Agency: Patent and Trademark Office (PTO).

Title: Statutory Invention Registration.

Agency Form Number(s): PTO/SB/94.

OMB Approval Number: 0651-0036.

Type of Request: Extension of a currently approved collection.

Burden Hours: 33.2 hours.

Number of Respondents: 83.

Average Hours Per Response: Based on PTO time and motion studies, the agency estimates that the burden hours required by the public to gather, prepare and submit a Request for a Statutory Invention Registration (PTO/SB/94), a petition to review final refusal to publish, or a petition to withdraw a publication request to be 24 minutes for each item.

Needs and Uses: The information is necessary to ensure that the requirements of 35 USC 157 and 37 CFR 1.293-1.297 are met. The public uses form PTO/SB/94, Request for Statutory Invention Registration, to request and authorize publication of a regularly-filed patent application as a statutory invention registration, to waive the right to receive a United States patent on the same invention claimed in the identified patent application, and to agree that the waiver will be effective upon publication of the statutory invention registration. The PTO uses form PTO/SB/94, Request for a Statutory Invention Registration, to review, grant, or deny a request for a statutory invention registration.

No forms are associated with the petition to review final refusal to publish a statutory invention registration or the petition to withdraw a publication request. The petition to review final refusal to publish a statutory invention registration is used by the public to petition the PTO's rejection of a request for a statutory invention registration. The PTO uses the petition to withdraw a publication request to review requests to stop publication of a statutory invention registration.

Affected Public: Individuals or households, businesses or other for-profit organizations; not-for-profit institutions; farms; the Federal Government; or State, Local or Tribal Governments.

Frequency: On occasion.

Respondent's Obligation: Required to obtain or retain a benefit.

OMB Desk Officer: Peter Weiss, (202) 395-3630.

Copies of the above information collection proposal can be obtained by calling or writing Linda Engelmeier, Departmental Forms Clearance Officer, Office of the Chief Information Officer, (202) 482-3272, Department of Commerce, Room 5027, 14th and Constitution Avenue, NW, Washington, DC, 20230 or via the Internet at (LEngelme@doc.gov).

Written comments and recommendations for the proposed information collection should be sent within 30 days of publication to Peter Weiss, OMB Desk Officer, Room 10236, New Executive Office Building, 725 17th Street, NW, Washington, DC, 20503.

Dated: February 9, 2000.
Linda Engelmeier,
Departmental Forms Clearance Officer, Office of the Chief Information Officer.

[FR Doc. 00-3563 Filed 2-14-00; 8:45 am]

BILLING CODE 3510-16-P